DEPARTMENT OF HEALTH AND HUMAN SERVICES

Health Resources and Services Administration

Agency Information Collection Activities: Submission to OMB for Review and Approval; Public Comment Request; Initial and Reconciliation Application Forms To Report Graduate Medical Education Data and Full-Time Equivalent Residents Trained by Hospitals Participating in the Children's Hospitals Graduate Medical Education Payment Program; and FTE Resident Assessment Forms To Report FTE Residents Trained by Organizations Participating in the CHGME Payment Program and the Teaching Health Center Graduate Medical Education Program, OMB No. 0915-0247—Revision

AGENCY: Health Resources and Services Administration (HRSA), Department of Health and Human Services.

ACTION: Notice.

SUMMARY: In compliance with the Paperwork Reduction Act of 1995, HRSA submitted an Information Collection Request (ICR) to the Office of Management and Budget (OMB) for review and approval. Comments submitted during the first public review of this ICR will be provided to OMB. OMB will accept further comments from the public during the review and approval period. OMB may act on HRSA's ICR only after the 30-day comment period for this notice has closed.

DATES: Comments on this ICR should be received no later than October 29, 2025.

ADDRESSES: Written comments and recommendations for the proposed information collection should be sent within 30 days of publication of this notice to: www.reginfo.gov/public/do/PRAMain. Find this particular information collection by selecting “Currently under Review—Open for Public Comments” or by using the search function.

FOR FURTHER INFORMATION CONTACT: To request a copy of the clearance requests submitted to OMB for review, email Samantha Miller, the HRSA Information Collection Clearance Officer, at paperwork@hrsa.gov or call (301) 443-3983.

SUPPLEMENTARY INFORMATION:

Information Collection Request Title: Initial and Reconciliation Application Forms to Report Graduate Medical Education Data and Full-Time Equivalent Residents Trained by Hospitals Participating in the Children's Hospitals Graduate Medical Education Payment Program; and Full-Time Equivalent Resident Assessment Forms to Report Full-Time Equivalent Residents Trained by Organizations Participating in the Children's Hospitals Graduate Medical Education Payment Program and the Teaching Health Center Graduate Medical Education Program, OMB No. 0915-0247—Revision.

Abstract: The Healthcare Research and Quality Act of 1999 (Pub. L. 106-129) established the Children's Hospitals Graduate Medical Education (CHGME) Payment Program, Section 340E of the Public Health Service Act, most recently amended by the Dr. Benjy Frances Brooks Children's Hospital Graduate Medical Education Support Reauthorization Act of 2018 (Pub. L. 115-241). In 2010, the Patient Protection and Affordable Care Act (Pub. L. 111-148) established the Teaching Health Center Graduate Medical Education (THCGME) Program, Section 340H of the Public Health Service Act. The CHGME Payment Program and the THCGME Program provide federal funding to support graduate medical education programs that train medical and dental residents and fellows. Specifically, the CHGME Payment Program supports residency programs at freestanding children's hospitals that train residents in pediatric, pediatric subspecialty, and non-pediatric care. The THCGME Program supports training for primary care residents/fellows (in family medicine, internal medicine, pediatrics, internal medicine-pediatrics, obstetrics and gynecology, psychiatry, general dentistry, pediatric dentistry, and geriatrics) in community-based ambulatory patient care settings. Children's hospitals and teaching health centers funded by HRSA's CHGME and THCGME programs, respectively, are required to report the number of full-time equivalent (FTE) residents trained during the federal fiscal year. HRSA contracts fiscal intermediaries to assess FTE resident counts reflected in participating children's hospitals' and teaching health centers' applications to determine any changes to the resident FTE counts initially reported. Fiscal intermediaries audit the data reported by the children's hospitals and the teaching health centers and report the verified FTE resident counts to HRSA. Evaluating the data from children's hospitals and teaching health centers ensures compliance with Medicare regulations and HRSA program requirements when determining the number of FTE residents eligible for funding. HRSA plans to submit an ICR because the current OMB clearance for the CHGME Payment Program application and the FTE resident assessment forms and exhibits used by both the CHGME and THCGME programs expire on December 31, 2025. All CHGME Payment Program applications and the FTE resident assessment forms and exhibits used by both the CHGME and THCGME programs are the same as currently approved.

A 60-day notice was published in the Federal Register on May 28, 2025, vol. 90, No. 101; pp. 22496-97. HRSA received two public comments. Below is a summary of key themes raised in the comments and HRSA's response:

Support for the CHGME Payment Program

A commenter provided support of the CHGME Payment Program, stating that the Program is the only federal program that specifically supports pediatric and pediatric subspecialty training at the nation's children's hospitals. The commenter cited HRSA's National Center for Workforce Analysis fact sheet with Program accomplishments showing CHGME Payment Program-participating children's hospitals trained 55 percent of all pediatric residents and 56 percent of all pediatric subspecialists in the United States in the 2023-2024 academic years and provided valuable care to the nation's children, including those in military-connected families and rural and underserved communities. Both commenters expressed their satisfaction with HRSA's efforts to reduce reporting burden through its plans to adopt Centers for Medicare & Medicaid Services' direct graduate medical education methodology for determining the weighted FTE count for children's hospitals participating in the CHGME Payment Program.

HRSA appreciates the commenters' support for the CHGME Payment Program and the agency's efforts to minimize administrative burden on children's hospitals who must report FTE counts to the CHGME Payment Program and the Centers for Medicare & Medicaid Services.

Recommendations To Reduce Burden

Both comments expressed the following:

• Stated that the time, effort, and costs associated with tracking residents, gathering the data, and completing the forms is burdensome.

• Expressed concern about the amount of information collected on HRSA's forms. Commenters encouraged HRSA to increase the use of automation, improve the efficiency of their processes to improve accuracy, reduce duplication, ensure the efficient use of hospital resources, and enable the CHGME hospitals to focus their resources on their training programs.

• Recommended HRSA implement clear guidelines and definitions, streamline data requests to encompass the most relevant information, use Medicare cost report data where appropriate, improve the data submission software, and fully utilize automation when possible.

HRSA appreciates these comments; however, they are not directly related to the data gathered as part of this notice. The data collection instruments associated with this notice collect hospital level data and aggregate FTE resident counts. Commenters mentioned the collection of burdensome, sensitive data directly from residents, which is due to HRSA in July—a very busy time for teaching hospitals. These comments appear to be directed at the CHGME annual performance report forms (OMB No. 0906-0086), which have a July deadline and require the collection of sensitive data directly from residents. The annual performance report forms collect more comprehensive individual level information rather than the aggregate information on FTEs in this data collection.

HRSA clarifies that the submission times for the forms included in this notice are as follows: (1) the reconciliation applications forms are due in early May, (2) the FTE assessment data is required during the fall and winter of each fiscal year, and (3) the initial application forms have a late August or early September submission date. The data gathered as part of this notice is hospital level data and aggregate FTE resident counts. Because the comments received are outside the scope of this final notice, HRSA is not addressing comments pertaining to the annual performance report forms and data collection.

Need and Proposed Use of the Information: Information collected will be used during the CHGME Payment Program initial application process and the reconciliation process for both the CHGME and THCGME programs to calculate the amount of graduate medical education payments that should be distributed to participating children's hospitals and teaching health centers. The CHGME Payment Program application forms and the FTE resident assessment forms for both the CHGME and THCGME programs will also be used to confirm the eligibility of the applicant children's hospitals, determine the number of FTE residents trained by participants in the CHGME and THCGME programs, and determine their compliance with the programs' requirements.

Likely Respondents: CHGME Payment Program applicants, CHGME Payment Program participants, and fiscal intermediaries auditing data submitted by the participating children's hospitals and teaching health centers.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below. CHGME participating children's hospitals report their FTE residents using forms and exhibits approved by OMB (#0915-0247). THCGME participating teaching health centers report their FTE residents using forms, tools, and exhibits approved by OMB (#0915-0342 and #0915-0367). The FTE resident assessment forms and exhibits currently approved for use by the CHGME Payment Program under OMB clearance #0915-0247 will be reviewed or completed by the fiscal intermediaries during the audit of the FTE residents reported by the teaching health centers participating in the THCGME Program. The FTE resident assessment forms and exhibits are submitted to HRSA for approval. The fiscal intermediaries currently reviewing or completing the forms and exhibits during the audit of children's hospitals will use the same forms and exhibits during the audit of teaching health centers.

Total Estimated Annualized Burden Hours
Total estimated annualized burden hours: form name | Number of respondents | Number of responses per respondent | Total responses | Average burden per response (in hours) | Total burden hours
Application Cover Letter (CHGME Initial and Reconciliation) | 60 | 2 | 120 | 0.33 | 39.6
HRSA 99 Form (CHGME Initial and Reconciliation) | 60 | 2 | 120 | 0.33 | 39.6
HRSA 99-1 Form (CHGME Initial) | 60 | 1 | 60 | 26.50 | 1,590.0
HRSA 99-1 Form (CHGME Reconciliation) | 60 | 1 | 60 | 6.50 | 390.0
HRSA 99-1 (Supplemental) (CHGME FTE Resident Assessment Only) | 30 | 2 | 60 | 3.67 | 220.2
HRSA 99-2 Form (CHGME Initial) | 60 | 1 | 60 | 11.33 | 679.8
HRSA 99-2 Form (CHGME Reconciliation) | 60 | 1 | 60 | 3.67 | 220.2
HRSA 99-4 Form (CHGME Reconciliation) | 60 | 1 | 60 | 12.50 | 750.0
HRSA 99-5 Form (Initial and Reconciliation) | 60 | 2 | 120 | 0.33 | 39.6
CFO Form Letter (CHGME Initial and Reconciliation) | 60 | 2 | 120 | 0.33 | 39.6
Exhibit 2 (CHGME Initial and Reconciliation) | 60 | 2 | 120 | 0.33 | 39.6
Exhibit 3 (CHGME Initial and Reconciliation) | 60 | 2 | 120 | 0.33 | 39.6
Exhibit 4 (CHGME Initial and Reconciliation) | 60 | 2 | 120 | 0.33 | 39.6
Conversation Record (CHGME FTE Resident Assessment Only) | 30 | 2 | 60 | 3.67 | 220.2
Exhibit C (CHGME and THCGME FTE Resident Assessment) | 30 | 4 | 120 | 3.67 | 440.4
Exhibit E (CHGME and THCGME FTE Resident Assessment) | 30 | 4 | 120 | 3.67 | 440.4
Exhibit F (CHGME and THCGME FTE Resident Assessment) | 30 | 4 | 120 | 3.67 | 440.4
Exhibit N (CHGME and THCGME FTE Resident Assessment) | 30 | 4 | 120 | 3.67 | 440.4
Exhibit O(1) (CHGME and THCGME FTE Resident Assessment) | 30 | 4 | 120 | 3.67 | 440.4
Exhibit O(2) (HRSA 99-1) (CHGME FTE Resident Assessment Only) | 30 | 2 | 60 | 26.5 | 1,590.0
Exhibit P (Reconciliation Tool) (CHGME and THCGME FTE Resident Assessment) | 30 | 4 | 120 | 3.67 | 440.4
Exhibit P(2) (CHGME and THCGME FTE Resident Assessment) | 30 | 4 | 120 | 3.67 | 440.4
Exhibit S (CHGME and THCGME FTE Resident Assessment) | 30 | 4 | 120 | 3.67 | 440.4
Exhibit T (CHGME FTE Resident Assessment Only) | 30 | 2 | 60 | 3.67 | 220.2
Exhibit T(1) (CHGME FTE Resident Assessment Only) | 30 | 2 | 60 | 3.67 | 220.2
Exhibit 1 (CHGME FTE Resident Assessment Only) | 30 | 2 | 60 | 0.33 | 19.8
Exhibit 2 (CHGME FTE Resident Assessment Only) | 30 | 2 | 60 | 0.33 | 19.8
Exhibit 3 (CHGME FTE Resident Assessment Only) | 30 | 2 | 60 | 0.33 | 19.8
Exhibit 4 (CHGME FTE Resident Assessment Only) | 30 | 2 | 60 | 0.33 | 19.8
Total | * 90 |  | ** 180 |  | 9,980.40
* The total number of respondents is 90 because children's hospitals (60) and fiscal intermediaries (30) are completing the forms.
** The total number of responses is 180 because children's hospitals (60) and fiscal intermediaries for the CHGME audits (60) and the THCGME audits (60) are completing the forms.

Maria G. Button,
Director, Executive Secretariat.

[FR Doc. 2025-18774 Filed 9-26-25; 8:45 am]

BILLING CODE 4165-15-P